DEPARTMENT OF HOUSING AND URBAN DEVELOPMENT

[Docket No. FR-4665-N-03]

Manufactured Housing Program: Notice Announcing the Selection of Members for the Manufactured Housing Consensus Committee

AGENCY: Office of the Assistant Secretary for Housing—Federal Housing Commissioner, HUD.

ACTION: Notice of Selection of Manufactured Housing Consensus Committee Members.

SUMMARY: This notice announces the voting members who have been appointed to the Consensus Committee for manufactured housing under the Manufactured Housing Improvement Act of 2000. The twenty-one voting members are comprised of seven representatives from each of three interest categories: producers, users, and general interest and public officials.

FOR FURTHER INFORMATION CONTACT: William W. Matchneer III, Administrator, Manufactured Housing Program, Office of Consumer and Regulatory Affairs, Department of Housing and Urban Development, 451 7th Street SW., Washington, DC 20410, telephone (202) 708-6409 (this is not a toll-free number). Hearing- or speech-impaired individuals may access this number via TTY by calling the toll-free Federal Information Relay Service at (800) 877-8339.

SUPPLEMENTARY INFORMATION: In accordance with the National Manufactured Housing Construction and Safety Standards Act of 1974 (42 U.S.C. 5401 et seq.) (the Act), the Department initiated a program that, in part, provides for establishment of standards by which all manufactured homes are constructed. The Act provides that these construction and safety standards preempt all standards of a State or political subdivision applicable to the same aspect of performance of a manufactured home that are not identical to the Federal manufactured home construction and safety standards.

The Manufactured Housing Improvement Act of 2000 (Title VI of Public Law 106-569, approved December 27, 2000) (the 2000 Act) amended the Act in several areas. The 2000 Act specifically provides for the establishment of a Consensus Committee for manufactured housing. In accordance with the 2000 Act, the Department acquired the services of an Administering Organization (AO), in part to undertake the process of seeking qualified candidates and recommending to HUD the initial members for the Consensus Committee. The AO selected candidates to recommend as the initial members based on procedures for consensus committees promulgated by the American National Standards Institute (ANSI). As required by the 2000 Act, the selections were designed to ensure equal representation among the prescribed interest categories: producers, users, and general interest and public officials.

Twenty-one individuals have been selected by HUD to serve as voting members on the committee. Those persons selected are listed below, with the localities and States from which they come, in the major interest category they represent. In order to remain eligible for service, each member must continue to qualify as a representative of the category for which he or she has been selected.

Producers

C. Edgar Bryant, Auburn Hills, MI

William Farish, Riverside, CA

Danny Ghorbani, Washington, DC

Douglas Gorman, Tulsa, OK

Ronald LaMont, Grand Prairie, TX

Nader Tomasbi, Goshen, IN

Frank Walter, Arlington, VA

Users

Jack Berger, Camp Hill, PA

Karl Braun, Las Vegas, NV

Susan Brenton, Tempe AZ

Earl Gilson, Port Angeles, WA

Charles Leven, Millbrook, NY

Jerome McHale, Port Charlotte, FL

Alan Youse, Salem, OR

General Interest and Public Officials

William Lagano, Clearwater, FL

Bryan Portz, Cleveland, OH

Dana Roberts, Salem, OR

Randy Vogt, St. Paul, MN

Christine Walsh Rogers, Seattle, WA

Richard Weinert, Sacramento, CA

Michael Zieman, Long Beach, CA

Authority: 42 U.S.C. 5403(a)(3).

Dated: August 6, 2002.
John C. Weicher,
Assistant Secretary for Housing—Federal Housing Commissioner.

[FR Doc. 02-20546 Filed 8-13-02; 8:45 am]

BILLING CODE 4210-27-P